DEPARTMENT OF TRANSPORTATION

Federal Aviation Administration

RTCA Special Committee 194; ATM Data Link Implementation

Pursuant to section 10(a)(2) of the Federal Advisory Committee Act (Pub. L. 92-463, 5 U.S.C., Appendix 2), notice is hereby given for Special Committee 194 meeting to be held November 28-30 (and December 1, if needed) 2000, starting at 9 a.m. The meeting will be held at RTCA, 1140 Connecticut Ave., NW, Suite 1020, Washington, DC 20036.

The agenda will include:

November 28

9 a.m. Plenary Session

(1) Review Agenda

(2) Review/Approve Previous Meeting Summary

(3) Presentation by the U.S. Representative to the ICAO Review of the General Concept of Separation Panel (RGCSP)

(4) Working Group Reports

(5) Presentation of WG-2's document, DO-XXX: “Implementation Requirements for Services Integrating Flight Operations and Air Traffic Management Using Addressed Data Link”

1 p.m.

(6) Working Groups meet:

(a) WG-1, Data Link Ops Concept & Implementation Plan

(b) WG-2, Flight Operations and ATM Integration

(c) WG-3, Human Factors

(d) WG-4, Service Provider Interface

November 29

(7) Working Groups 1-4 continue

November 30

9 a.m. Plenary Session

(8) Develop Plenary Consensus approval of WG-2's document, DO-XXX: “Implementation Requirements for Services Integrating Flight Operations and Air Traffic Management Using Addressed Data Link”

(9) Working Group Reports:

(e) Includes presentation of WG-4 draft working paper for plenary review

(10) Other Business

(11) Date and Location of Next Meeting

(12) Closing

Attendance is open to the interested public but limited to space availability. With the approval of the chairman, members of the public may present oral statements at the meeting. Persons wishing to present statements or obtain information should contact the RTCA Secretariat, 1140 Connecticut Avenue, NW, Suite 1020, Washington, DC 20036; (202) 833-9339 (phone); (202) 833-9434 (fax); or http://www.rtca.org (web site). Members of the public may present a written statement to the committee at any time.

Issued in Washington, DC, on October 30, 2000.
Janice L. Peters,
Designated Official.

[FR Doc. 00-28441 Filed 11-3-00; 8:45 am]

BILLING CODE 4910-13-M